DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Treatment Episode Data Set (TEDS)—New

The Treatment Episode Data Set (TEDS) is a compilation of client-level substance abuse treatment admission and discharge data submitted by States on clients treated in facilities that receive State funds. TEDS is related to SAMHSA's Drug and Alcohol Services Information System (DASIS) (now the Behavioral Health Services Information System (BHSIS)), and was previously approved as part of the DASIS data collection (OMB No. 0930-0106). SAMHSA is now requesting OMB approval for TEDS separately from the other DASIS/BHSIS activities.

The BHSIS data collections involve primarily facility-level data systems, including the Inventory of Behavioral Health Services (I-BHS), which is an inventory of substance abuse and mental health treatment facilities, the National Survey of Substance Abuse Treatment Services (N-SSATS), and the National Mental Health Services Survey (NMHSS, OMB No. 0930-0119). The N-SSATS and NMHSS are census surveys of treatment facilities. In contrast, TEDS is a client-level data system that collects admission and discharge records from state substance abuse agencies. Therefore, SAMHSA is requesting OMB approval for the TEDS client-level data collection separately from the BHSIS facility-related activities.

TEDS data are collected to obtain information on the number of admissions and discharges at publicly-funded substance abuse treatment facilities and on the characteristics of clients receiving services at those facilities. TEDS also monitors trends in the demographic and substance use characteristics of treatment admissions. In addition, several of the data elements used to calculate performance measures for the Substance Abuse Prevention and Treatment (SAPT) Block Grant are collected in TEDS.

This request for OMB approval includes a request to continue the collection of TEDS client-level admissions and discharge data. Most states collect the TEDS data elements from their treatment providers for their own administrative purposes and are able to submit a crossed-walked extract of their data to TEDS. No significant changes are expected in the TEDS collection (other than recording the TEDS burden hours separately from the DASIS/BHSIS burden hours.)

Estimated annual burden for the TEDS activities is shown below:

Type of respondent and activity | Number of respondents | Responses per respondent | Hours per response | Total burden hours
STATES:
TEDS Admission Data | 52 | 4 | 6.25 | 1,300
TEDS Discharge Data | 52 | 4 | 8.25 | 1,716
TEDS Crosswalks | 5 | 1 | 10 | 50
Total | 52 |  |  | 3,066

Written comments and recommendations concerning the proposed information collection should be sent by October 17, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-22822 Filed 9-14-12; 8:45 am]

BILLING CODE 4162-20-P